DEPARTMENT OF THE INTERIOR

National Park Service

Notice of Availability of the Draft Site Progress Report to the World Heritage Committee, Yellowstone National Park

AGENCY: National Park Service, Interior.

ACTION: Notice of Availability of the Draft Site Progress Report to the World Heritage Committee, Yellowstone National Park.

SUMMARY: Pursuant to the Decisions adopted by the 27th and 32nd Sessions of the World Heritage Committee (Documents WHC-03/72.COM/7A.12, WHC 32.COM.7B.39) accepted by the United States Government, the National Park Service (NPS) announces the publication for comment of a Draft Site Progress Report to the World Heritage Committee for Yellowstone National Park, Wyoming, Idaho, and Montana.

DATES: There will be a 30-day public review period for comments on this document. Comments must be received on or before February 22, 2010.

ADDRESSES: The Draft Site Report is posted on the park's Web site at: http://www.nps.gov/yell/planyourvisit/world-heritage-committee-report.htm. Copies are also available by writing to Suzanne Lewis, Superintendent, Yellowstone National Park, P.O. Box 168, Yellowstone National Park, WY 82190-0168; by telephoning 307-344-2002; by sending an e-mail message to yell_world_heritage@nps.gov; or by picking up a copy in person at the park's headquarters in Mammoth Hot Springs, Wyoming 82190.

FOR FURTHER INFORMATION CONTACT: Suzanne Lewis, Superintendent, Yellowstone National Park, P.O. Box 168, Yellowstone National Park, WY 82190-0168, or by calling 307-344-2002.

SUPPLEMENTARY INFORMATION: The draft report summarizes the status of several issues, including threats to bison, threats to cutthroat trout, water quality, and visitor use impacts, which raised the concerns of the World Heritage Committee in 1995 and led to the park's inclusion on the List of World Heritage in Danger that year. The World Heritage Committee removed Yellowstone National Park from the In Danger List in 2003, and at that time requested that the United States submit a report to the Committee on the status of these issues every two years.

Persons wishing to comment may do so by any one of several methods. They may mail comments to Suzanne Lewis, Superintendent, Yellowstone National Park, P.O. Box 168, Yellowstone National Park, WY 82190-0168. They also may comment via e-mail to yell_world_heritage@nps.gov (include name and return address in the e-mail message). Finally, they may hand-deliver comments to park headquarters in Mammoth Hot Springs, Wyoming 82190. Before including your address, phone number, e-mail address, or other personal identifying information in your comment, you should be aware that your entire comment—including your personal identifying information—may be made publicly available at any time. While you can ask us in your comment to withhold your personal identifying information from public view, we cannot guarantee that we will be able to do so. We will make all submissions from organizations or businesses, and from individuals identifying themselves as representatives or officials of organizations or businesses, available for public inspection in their entirety.

Mickey Fearn,
Deputy Director, Communications and Community Assistance.

[FR Doc. 2010-1095 Filed 1-20-10; 8:45 am]

BILLING CODE 4312-CT-P